RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s):

(1) Collection title: Verification of Supplemental Annuity.

(2) Form(s) submitted: G-88P.1, G-88P.2.

(3) OMB Number: N/A.

(4) Expiration date of current OMB clearance: N/A.

(5) Type of request: New.

(6) Respondents: Business or other-for-profit.

(7) Estimated annual number of respondents: 90.

(8) Total annual responses: 90.

(9) Total annual reporting hours: 180.

(10) Collection description: Under Section 2(b) of the Railroad Retirement Act, the Railroad Retirement Board pays supplemental annuities to qualified annuitants. The collection will obtain information from railroad employers needed to insure that the supplemental annuities are correctly adjusted and that the supplemental tax credits and liabilities are correct.

ADDITIONAL INFORMATION OR COMMENTS: Copies of the forms and supporting documents can be obtained from Chuck Mierzwa, the agency clearance officer (312-751-3363). Comments regarding the information collection should be addressed to Ronald J. Hodapp, Railroad Retirement Board, 844 North Rush Street, Chicago, Illinois, 60611-2092 and to the OMB Desk Officer (RRB), at the Office of Management and Budget, Room 10230, New Executive Office Building, Washington, DC 20503.

Chuck Mierzwa,
Clearance Officer.

[FR Doc. 01-24286 Filed 9-27-01; 8:45 am]

BILLING CODE 7905-01-M